DEPARTMENT OF HEALTH AND HUMAN SERVICES

Administration for Children and Families

Submission for OMB Review; Comment Request

Title: Request for State Data Needed to determine the Amount of a Tribal Family Asistance Grant.

OMB No.: 0970-0173

Description: This document consists of a letter to the States' requesting data to determine the amount of a Tribal Family Assistance Grant.

Respondents: State Governments.

Annual Burden Estimates
Instrument | Number of respondents | Number of responses per respondent | Average burden hours per response | Total burden hours
Request | 20 | 1 | 40 | 840
Estimated Total Annual Burden Hours: 840.

Additional Information: Copies of the proposed collection may be obtained by writing to the Administration for Children and Families, Office of Information Services, Division of Information Resource Management Services, 370 L'Enfant Promenade, SW., Washington, DC 20447, Attn: ACF Reports Clearance Officer. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 26, 2001.
Bob Sargis,
Reports Clearance Officer.

[FR Doc. 01-5162 Filed 3-2-01; 8:45 am]

BILLING CODE 4184-01-M